DEPARTMENT OF ENERGY

Notice of Orders Issued Under Section 3 of The Natural Gas Act During April 2018

| FE Docket Nos.
SANTA FE GAS LLC | 18-36-NG
WEST TEXAS GAS, INC. | 18-39-NG
POWEREX CORP. | 18-37-NG; 16-170-NG
SPARK ENERGY GAS, LLC | 18-38-NG; 16-164-NG
NEW YORK STATE ELECTRIC & GAS COMPANY | 18-41-NG
NOBLE AMERICAS GAS & POWER CORP. | 17-36-NG
IGI RESOURCES, INC. | 18-43-NG
ENERGY SOURCE NATURAL GAS INC. | 18-42-NG
EMPIRE NATURAL GAS CORPORATION | 18-44-NG
ENGELHART CTP (US) LLC | 18-45-NG

AGENCY: Office of Fossil Energy, Department of Energy.

ACTION: Notice of orders.

SUMMARY: The Office of Fossil Energy (FE) of the Department of Energy gives notice that during April 2018, it issued orders granting authority to import and export natural gas, and to import and export liquefied natural gas (LNG), and vacating authorization. These orders are summarized in the attached appendix and may be found on the FE website at https://www.energy.gov/fe/downloads/listing-doefe-authorizationsorders-issued-2018-1.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on May 22, 2018.
Amy Sweeney,
Director, Division of Natural Gas Regulation.

Appendix

DOE/FE Orders Granting Import/Export Authorizations
4171 | 04/09/18 | 18-36-NG | Santa Fe Gas LLC | Order 4171 granting blanket authority to import/export natural gas from/to Mexico.
4172 | 04/23/18 | 18-39-NG | West Texas Gas, Inc. | Order 4172 granting blanket authority to export natural gas to Mexico.
4173; 3938-A | 04/20/18 | 18-37-NG; 16-170-NG | Powerex Corp. | Order 4173 granting blanket authority to import/export natural gas from/to Canada/Mexico and to vacate prior authority Order 3938.
4174; 3910-A | 04/20/18 | 18-38-NG; 16-164-NG | Spark Energy Gas, LLC | Order 4174 granting blanket authority to import natural gas from Canada and vacating prior authority Order 3910.
4175 | 04/20/18 | 18-41-NG | New York State Electric & Gas Company | Order 4175 granting blanket authority to import/export natural gas from/to Canada.
4012-A | 04/20/18 | 17-36-NG | Noble Americas Gas & Power Corp. | Order 4012-A vacating blanket authority to import/export natural gas from/to Canada/Mexico.
4176 | 4/25/18 | 18-43-NG | IGI Resources, Inc. | Order 4176 granting blanket authority to import/export natural gas from/to Canada.
4177 | 4/25/18 | 18-42-NG | Energy Source Natural Gas Inc. | Order 4177 granting blanket authority to import/export natural gas from/to Canada.
4179 | 04/27/18 | 18-44-NG | Empire Natural Gas Corporation | Order 4179 granting blanket authority to import/export natural gas from/to Canada.
4180 | 4/27/18 | 18-45-NG | Engelhart CTP (US) LLC | Order 4180 granting blanket authority to import/export natural gas from/to Canada/Mexico.

[FR Doc. 2018-11402 Filed 5-25-18; 8:45 am]

BILLING CODE 6450-01-P